DEPARTMENT OF TRANSPORTATION

Federal Aviation Administration

[Summary Notice No. PE-2004-84]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of certain dispositions of certain petitions previously received. The purpose of this notice is to improve the public's awareness of, and participation in, this aspect of FAA's regulatory activities.

FOR FURTHER INFORMATION CONTACT: Tim Adams (202) 267-8033, or Sandy Buchanan-Sumter (202) 267-7271, Office of Rulemaking (ARM-1), Federal Aviation Administration, 800 Independence Avenue, SW., Washington, DC 20591.

This notice is published pursuant to 14 CFR 11.85 and 11.91.

Anthony F. Fazio,
Director, Office of Rulemaking.

Dispositions of Petitions

Docket No.: FAA-2004-18501.

Petitioner: Inter Island Airways, Inc.

Section of 14 CFR Affected: 14 CFR 135.152.

Description of Relief Sought/Disposition: To permit Inter island Airways, Inc., to the extent necessary to operate its Dornier 228-212 airplane, Registration N228ST, subject to certain conditions and limitations. Grant, 10/14/2004, Exemption No. 8424.

Docket No.: FAA-2004-19159.

Petitioner: Monterey Bay Chapter of the International Organization of the Ninety-Nines, Inc.

Section of 14 CFR Affected: 14 CFR 135.251, 135.255, and 135.353, and appendices I and J to part 121.

Description of Relief Sought/Disposition: To permit Monterey Bay Chapter of the International Organization of the Ninety-Nines, Inc., to conduct local sightseeing flights at the Watsonville Municipal Airport, Watsonville, California, on or about October 30, 2004, for compensation or hire, without complying with certain anti-drug and alcohol misuse prevention requirements of part 135, subject to certain conditions and limitations. Grant, 10/15/2004, Exemption No. 8423.

Docket No.: FAA-2000-8147.

Petitioner: Flight Line Aviation, Inc.

Section of 14 CFR Affected: 14 CFR 135.143(c)(2).

Description of Relief Sought/Disposition: To permit Flight Line Aviation, Inc., to operate certain aircraft under part 135 without a TSO-C112 (Mode S) transponder installed on those aircraft. Grant, 10/18/2004, Exemption No. 6874C.

Docket No.: FAA-2004-19282.

Petitioner: Pacific Wings, LLC.

Section of 14 CFR Affected: 14 CFR 135.143(c)(2).

Description of Relief Sought/Disposition: To permit Pacific Wings, LLC, to operate four Cessna Caravan 208B aircraft under part 135 without a TSO-C112 (Mode S) transponder installed on those aircraft. Grant, 10/13/2004, Exemption No. 8419.

Docket No.: FAA-2001-8685.

Petitioner: Advantage Air Charter, LLC.

Section of 14 CFR Affected: 14 CFR 135.143(c)(2).

Description of Relief Sought/Disposition: To permit Advantage Air Charter, LLC, to operate certain aircraft under part 135 without a TSO-C112 (Mode S) transponder installed on those aircraft. Grant, 10/13/2004, Exemption No. 7441B.

Docket No.: FAA-2004-19305.

Petitioner: Columbia Flyers, LLC.

Section of 14 CFR Affected: 14 CFR 135.143(c)(2).

Description of Relief Sought/Disposition: To permit Columbia Flyers, LLC, to operate its Bell Helicopter (Serial No. 2867) under part 135 without a TSO-C112 (Mode S) transponder installed on those aircraft. Grant, 10/13/2004, Exemption No. 8420.

Docket No.: FAA-2004-19339.

Petitioner: Aurora Aviation, LLC.

Section of 14 CFR Affected: 14 CFR 135.143(c)(2).

Description of Relief Sought/Disposition: To permit Aurora Aviation, LLC, to operate certain aircraft under part 135 without a TSO-C112 (Mode S) transponder installed on those aircraft. Grant, 10/13/2004, Exemption No. 8421.

Docket No.: FAA-2004-19338.

Petitioner: Wright Air Service.

Section of 14 CFR Affected: 14 CFR 135.143(c)(2).

Description of Relief Sought/Disposition: To permit Wright Air Service to operate certain aircraft under part 135 without a TSO-C112 (Mode S) transponder installed on those aircraft. Grant, 10/13/2004, Exemption No. 8422.

Docket No.: FAA-2000-8140.

Petitioner: Alaska Island Air, Inc.

Section of 14 CFR Affected: 14 CFR 135.143(c)(2).

Description of Relief Sought/Disposition: To permit Alaska Island Air, Inc., to operate certain aircraft under part 135 without a TSO-C112 (Mode S) transponder installed on those aircraft. Grant, 10/13/2004, Exemption No. 7936A.

Docket No.: FAA-2000-8428.

Petitioner: Delta Air Lines, Inc.

Section of 14 CFR Affected: 14 CFR 25.791(a) and 121.317(a).

Description of Relief Sought/Disposition: To permit Delta Air Lines, Inc. (Delta), to operate its McDonnell Douglas MD-90 aircraft with “No Smoking” signs that are always illuminated provided Delta operates those aircraft in a manner that continues to prohibit smoking on board the affected aircraft at all times. Grant, 10/12/2004, Exemption No. 6034E.

Docket No.: FAA-2004-19314.

Petitioner: Western North Carolina Pilots Association.

Section of 14 CFR Affected: 14 CFR 135.251, 135.255, and 135.353, and appendices I and J to part 121.

Description of Relief Sought/Disposition: To permit Western North Carolina Pilots Association to conduct local sightseeing flights at the Asheville Regional Airport, Asheville, North Carolina, on or about October 23 and 24, 2004, for compensation or hire, without complying with certain anti-drug and alcohol misuse prevention requirements of part 135, subject to certain conditions and limitations. Grant, 10/21/2004, Exemption No. 8426.

[FR Doc. 04-25214 Filed 11-10-04; 8:45 am]

BILLING CODE 4910-13-P